DEPARTMENT OF DEFENSE

Office of the Secretary

Defense Business Board; Notice of Federal Advisory Committee Meeting; Cancellation

AGENCY: Department of Defense.

ACTION: Meeting notice; cancellation.

SUMMARY: On Monday, September 23, 2013 (78 FR 58290-58291), the Department of Defense published a notice announcing a meeting of the Defense Business Board (DBB), which was scheduled for Thursday, October 17, 2013. This notice announces the cancellation of the October 17, 2013 meeting. Due to the lapse of appropriations, the scheduled DBB meeting on October 17, 2013 is cancelled. Due to the government shutdown, this notice of meeting cancellation could not be published before the date of the meeting that is now cancelled.

FOR FURTHER INFORMATION CONTACT: Ms. Phyllis Ferguson, Phyllis.L.Ferguson2.civ@mail.mil, 703-695-7563 or Ms. Debora Duffy, Debora.K.Duffy.civ@mail.mil, (703) 697-2168.

SUPPLEMENTARY INFORMATION: Meeting Announcement: Due to the lapse of appropriations, the Department of Defense cancelled the meeting of the Defense Business Board on October 17, 2013. As a result, the Department of Defense was unable to provide appropriate notification as required by 41 CFR 102-3.150(a). Therefore, the Advisory Committee Management Officer for the Department of Defense, pursuant to 41 CFR 102-3.150(b), waives the 15-calendar day notification requirement.

Dated: October 17, 2013.
Aaron Siegel,
Alternate OSD Federal Register Liaison Officer, Department of Defense.

[FR Doc. 2013-24719 Filed 10-22-13; 8:45 am]

BILLING CODE 5001-06-P